DEPARTMENT OF COMMERCE

International Trade Administration

[A-570-831]

Fresh Garlic from the People's Republic of China: Notice of Intent to Rescind and Partial Rescission of the 11th Administrative Review

AGENCY: Import Administration, International Trade Administration, Department of Commerce.

EFFECTIVE DATE: June 30, 2006.

FOR FURTHER INFORMATION CONTACT: Irene Gorelik, AD/CVD Operations, Office 9, Import Administration, International Trade Administration, U.S. Department of Commerce, 14th Street and Constitution Avenue, NW., Washington DC 20230; telephone: (202) 482-6905.

SUPPLEMENTARY INFORMATION:

Background

On December 22, 2005, the Department published a notice of initiation of an administrative review of fresh garlic from the People's Republic of China (“PRC”), covering the period November 1, 2004, through October 31, 2005. See Initiation of Antidumping and Countervailing Duty Administrative Reviews and Requests for Revocation in Part, 70 FR 76024 (December 22, 2005).

On January 17, 2006, Weifang Shennong Foodstuff Company Ltd. (“WSFC”) notified the Department that it had no shipments of subject merchandise to the United States during the POR. On January 27, 2006, Jinan Yipin Corporation Ltd. (“Jinan Yipin”) notified the Department that it had no shipments of subject merchandise to the United States during the period of review (“POR”).

On March 20, 2006, the Fresh Garlic Producers Association (the “Petitioner”) withdrew its request for an administrative review on four companies: Shandong Chengshun Farm Produce Trading Company Ltd. (“Chengshun”), Shanghai LJ International Trading Company Ltd. (“Shanghai LJ”), Jinxiang Tianshan Foodstuff Company Ltd. (“Tianshan”) and Xi'an XiongLi Foodstuff Company Ltd. (“XiongLi”). On May 20, 2006, the Petitioner withdrew its request for an administrative review on fifteen additional companies: Anqiu Friend Food Company Ltd. (“Anqiu Friend”), Clipper Manufacturing Ltd. (“Clipper”), H&T Trading Company (“H&T”), Huaiyang Huamei Foodstuff Company Ltd. (“Huaiyang Huamei”), Jining Yun Feng Agricultural Products Company Ltd. (“Yun Feng”), Jinxiang Hongyu Freezing and Storage Company Ltd. (“Hongyu”), Linyi Sanshan Import & Export Trading Company Ltd. (“Linyi Sanshan”), Qingdao Saturn International Trade Company Ltd. (“Qingdao Saturn”), Qufu Dongbao Import & Export Trade Company Ltd. (“Qufu Dongbao”), Shandong Dongyue Produce Company Ltd. (“Dongyue”), Shandong Jining Jinshan Textile Company Ltd. (“Jinshan”), Shenzhen Fanhui Import & Export Company Ltd. (“Fanhui”), Tancheng County Dexing Foods Company Ltd. (“Dexing Foods”), Xiangcheng Yisheng Foodstuffs Company (“Xiangcheng Yisheng”) and Zhengzhou Harmoni Spice Company Ltd. (“Harmoni”). On May 30, 2006, Harmoni withdrew its own request for an administrative review.

Intent to Rescind in Part

Section 351.213(d)(3) of the Department's regulations provides that the Department may rescind an administrative review, in whole or only with respect to a particular exporter or producer, if the Secretary concludes that, during the period covered by the review, there were no entries, exports, or sales of the subject merchandise. On January 17, 2006, WSFC, and on January 20, 2006, Jinan Yipin, informed the Department that they did not sell subject merchandise to the United States during the POR. The Department reviewed data on entries under the order during the period of review from U.S. Customs and Border Protection (“CBP”), and found no entries or sales of subject merchandise by WSFC or Jinan Yipin into the United States during the POR. See Memo to the File, CBP Packages, dated June 20, 2006. Therefore, absent the submission of any evidence that WSFC or Jinan Yipin had U.S. entries or sales of subject merchandise during the POR, the Department intends to rescind the administrative review with respect to these companies. See 19 CFR 351.213(d)(3).

In accordance with section 351.309(c)(ii) of the Department's regulations, interested parties may submit case briefs no later than 30 days after the date of publication of this preliminary notice. Additionally, in accordance with section 351.309(d) of the Department's regulations, rebuttal briefs, limited to issues raised in such briefs, may be filed no later than five days after the time limit for filing the case brief. Parties who submit arguments are requested to submit with the argument (1) a statement of the issue; (2) a brief summary of the argument; and, (3) a table of authorities. Further, parties submitting written comments should provide the Department with an additional copy of the public version of any such comments on diskette.

Partial Rescission

Pursuant to section 351.213(d)(1) of the Department's regulations, the Secretary will rescind an administrative review, in whole or in part, if a party who requested the review withdraws the request within ninety days of the date of publication of notice of initiation of the requested review.

Therefore, because the Petitioner's requests were timely, in accordance with section 351.213(d)(1) of the Department's regulations, we are rescinding this review with respect to Chengshun, Shanghai LJ, Tianshan, XiongLi, Anqiu Friend, Clipper, H&T, Huaiyang Huamei, Yun Feng, Hongyu, Linyi Sanshan, Qingdao Saturn, Qufu Dongbao, Dongyue, Jinshan, Fanhui, Dexing Foods and Xiangcheng Yisheng. In addition, because the Petitioner's and Harmoni's requests were timely, in accordance with section 351.213(d)(1) of the Department's regulations, we are rescinding this review with respect to Harmoni.

Assessment Rates

The Department will instruct CBP to assess antidumping duties on all appropriate entries. For those companies for which this review has been rescinded, antidumping duties shall be assessed at rates equal to the cash deposit of estimated antidumping duties required at the time of entry, or withdrawal from warehouse, for consumption, in accordance with 19 CFR 351.212(c)(2). The Department will issue appropriate assessment instructions directly to CBP within 15 days of publication of this notice.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Act and 19 CFR 351.213(d)(4).

Dated: June 20, 2006.
Stephen J. Claeys,
Deputy Assistant Secretary for Import Administration.

[FR Doc. E6-10292 Filed 6-29-06; 8:45 am]

BILLING CODE 3510-DS-S